DEPARTMENT OF ENERGY

Federal Energy Regulatory Commission

Combined Notice of Filings

June 3, 2010.

Take notice that the Commission has received the following Natural Gas Pipeline Rate and Refund Report filings:

Docket Numbers: RP10-806-000.

Applicants: American Midstream (Midla), LLC.

Description: American Midstream (Milda), LLC submits First Revised Sheet No. to FERC Gas Tariff, Sixth Revised Volume No. 1 to be effective 6/1/2010.

Filed Date: 06/01/2010.

Accession Number: 20100602-0222.

Comment Date: 5 p.m. Eastern Time on Monday, June 14, 2010.

Docket Numbers: RP10-807-000.

Applicants: MarkWest Pioneer, L.L.C.

Description: MarkWest Pioneer, LLC submits Fourth Revised Sheet No. 5 to FERC Gas Tariff, Original Volume No. 1, to be effective 7/1/2010.

Filed Date: 06/01/2010.

Accession Number: 20100602-0221.

Comment Date: 5 p.m. Eastern Time on Monday, June 14, 2010.

Docket Numbers: RP10-808-000.

Applicants: Gulf South Pipeline Company, LP.

Description: Gulf South Pipeline Company, LP submits Fifth Revised Sheet 1417 of its FERC Gas Tariff, Sixth Revised Volume 1, to be effective 7/1/2010.

Filed Date: 06/01/2010.

Accession Number: 20100602-0220.

Comment Date: 5 p.m. Eastern Time on Monday, June 14, 2010.

Docket Numbers: RP10-809-000.

Applicants: Gulf South Pipeline Company, LP.

Description: Gulf South Pipeline Company, LP submits capacity release agreement containing negotiated rate provisions.

Filed Date: 06/01/2010.

Accession Number: 20100602-0219.

Comment Date: 5 p.m. Eastern Time on Monday, June 14, 2010.

Docket Numbers: RP10-810-000.

Applicants: Gulf South Pipeline Company, LP.

Description: Gulf South Pipeline Company, LP submits capacity release agreement containing negotiated rate provisions.

Filed Date: 06/02/2010.

Accession Number: 20100602-0218.

Comment Date: 5 p.m. Eastern Time on Monday, June 14, 2010.

Docket Numbers: RP10-811-000.

Applicants: Gulf South Pipeline Company, LP.

Description: Gulf South Pipeline Company, LP submits capacity release agreement containing negotiated rate provisions.

Filed Date: 06/01/2010.

Accession Number: 20100602-0217.

Comment Date: 5 p.m. Eastern Time on Monday, June 14, 2010.

Docket Numbers: RP10-812-000.

Applicants: Gulf South Pipeline Company, LP.

Description: Gulf South Pipeline Company, LP submits capacity release agreement containing negotiated rate provisions.

Filed Date: 06/01/2010.

Accession Number: 20100602-0216.

Comment Date: 5 p.m. Eastern Time on Monday, June 14, 2010.

Docket Numbers: RP10-813-000.

Applicants: Gulf South Pipeline Company, LP.

Description: Gulf South Pipeline Co, LP submits a capacity release agreement containing negotiated rate provisions.

Filed Date: 06/01/2010.

Accession Number: 20100602-0215.

Comment Date: 5 p.m. Eastern Time on Monday, June 14, 2010.

Docket Numbers: RP10-814-000.

Applicants: Algonquin Gas Transmission, LLC.

Description: Algonquin Gas Transmission, LLC submits tariff filing per 154.204: Consolidated Edison negotiated rate for contract 510371 to be effective 6/2/2010.

Filed Date: 06/02/2010.

Accession Number: 20100602-5025.

Comment Date: 5 p.m. Eastern Time on Monday, June 14, 2010.

Docket Numbers: RP10-815-000.

Applicants: Gulf South Pipeline Company, LP.

Description: Gulf South Pipeline Company, LP submits negotiated rate letter agreement by Gulf South and Total Gas & Power North America, Inc.

Filed Date: 06/01/2010.

Accession Number: 20100602-0214.

Comment Date: 5 p.m. Eastern Time on Monday, June 14, 2010.

Docket Numbers: RP10-816-000.

Applicants: Columbia Gas Transmission, LLC.

Description: Columbia Gas Transmission, LLC submits tariff filing to FERC Gas Tariff, Fourth Revised Volume 1 per 154.203: SIT Compliance, to be effective 6/1/2010.

Filed Date: 06/02/2010.

Accession Number: 20100602-5041.

Comment Date: 5 p.m. Eastern Time on Monday, June 14, 2010.

Docket Numbers: RP10-817-000.

Applicants: Kern River Gas Transmission Company.

Description: Kern River Gas Transmission Company submits First Revised Sheet 215 et al. to its FERC Gas Tariff, Second Revised Volume 1 to be effective 6/28/10.

Filed Date: 05/28/2010.

Accession Number: 20100601-0246.

Comment Date: 5 p.m. Eastern Time on Wednesday, June 9, 2010.

Docket Numbers: RP10-818-000.

Applicants: North Baja Pipeline, LLC.

Description: North Baja Pipeline, LLC submits tariff filing per 154.601: Sempra F-4 to be effective 6/1/2010.

Filed Date: 06/02/2010.

Accession Number: 20100602-5053.

Comment Date: 5 p.m. Eastern Time on Monday, June 14, 2010.

Docket Numbers: RP10-819-000.

Applicants: Gulf South Pipeline Company, LP.

Description: Gulf South Pipeline Company, LP submits a Negotiated Rate Capacity Release Agreement.

Filed Date: 06/02/2010.

Accession Number: 20100602-0247.

Comment Date: 5 p.m. Eastern Time on Monday, June 14, 2010.

Docket Numbers: RP10-820-000.

Applicants: Gulf South Pipeline Company, LP.

Description: Gulf South Pipeline Company LP submits a negotiated rate capacity release agreement.

Filed Date: 06/02/2010.

Accession Number: 20100602-0245.

Comment Date: 5 p.m. Eastern Time on Monday, June 14, 2010.

Docket Numbers: RP10-821-000.

Applicants: Texas Gas Transmission, LLC.

Description: Texas Gas Transmission LLC submits Third Revised Volume 1 as part of its Gas Tariff, to be effective 7/2/2010.

Filed Date: 06/02/2010.

Accession Number: 20100602-0246.

Comment Date: 5 p.m. Eastern Time on Monday, June 14, 2010.

Docket Numbers: RP10-822-000.

Applicants: Alliance Pipeline L.P.

Description: Alliance Pipeline L.P. submits tariff filing per 154.601: Calpine Capacity June 2010 to be effective 6/1/2010.

Filed Date: 06/03/2010.

Accession Number: 20100603-5002.

Comment Date: 5 p.m. Eastern Time on Tuesday, June 15, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-14089 Filed 6-10-10; 8:45 am]

BILLING CODE 6717-01-P